ENVIRONMENTAL PROTECTION AGENCY

40 CFR Part 271

[EPA-R06-RCRA-2016-0176; FRL-9950-13-Region 6]

Arkansas: Final Authorization of State Hazardous Waste Management Program Revision

AGENCY: Environmental Protection Agency (EPA).

ACTION: Direct final rule.

SUMMARY: The State of Arkansas has applied to the United States Environmental Protection Agency (EPA) for final authorization of the changes to its hazardous waste program under the Resource Conservation and Recovery Act (RCRA). EPA has determined that these changes satisfy all requirements needed to qualify for final authorization, and is authorizing the State's changes through this direct final rule. In the “Proposed Rules” section of this Federal Register, EPA is also publishing a separate document that serves as the proposal to authorize these changes. EPA believes this action is not controversial and does not expect comments that oppose it. Unless EPA receives written comments which oppose this authorization during the comment period, the decision to authorize Arkansas' changes to its hazardous waste program will take effect. If EPA receives comments that oppose this action, EPA will publish a document in the Federal Register withdrawing this direct final rule before it takes effect, and the separate document in the “Proposed Rules” section of this Federal Register will serve as the proposal to authorize the changes.

DATES: This final authorization is effective on October 11, 2016 unless the EPA receives adverse written comment by September 12, 2016. If the EPA receives such comment, EPA will publish a timely withdrawal of this direct final rule in the Federal Register and inform the public that this authorization will not take effect.

ADDRESSES: Submit your comments by one of the following methods:

• Federal eRulemaking Portal: http://www.regulations.gov. Follow the on-line instructions for submitting comments.

• Email: patterson.alima@epa.gov.

• Fax: (214) 665-6762 (prior to faxing, please notify Alima Patterson at (214) 665-8533).

• Mail: Alima Patterson, Region 6, Regional Authorization Coordinator, RCRA Permit Section (RPM), Multimedia Planning and Permitting Division, EPA Region 6, 1445 Ross Avenue, Dallas Texas 75202-2733.

• Hand Delivery or Courier: Deliver your comments to Alima Patterson, Region 6, Regional Authorization Coordinator, RCRA Permit Section (RPM), Multimedia Planning and Permitting Division, EPA Region 6, 1445 Ross Avenue, Dallas Texas 75202-2733.

Instructions: EPA must receive your comments by September 12, 2016. Direct your comments to Docket ID Number EPA-R06-RCRA-2016-0176. The EPA's policy is that all comments received will be included in the public docket without change and may be made available online at http://www.regulations.gov, including any personal information provided, unless the comment includes information claimed to be Confidential Business Information (CBI), or other information whose disclosure is restricted by statute. Do not submit information that you consider to be CBI or otherwise protected through regulations.gov, or email. The Federal regulations.gov Web site is an “anonymous access” system, which means the EPA will not know your identity or contact information unless you provide it in the body of your comment. If you send an email comment directly to the EPA without going through regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. (For additional information about the EPA's public docket, visit the EPA Docket Center homepage at http://www.epa.gov/epahome/dockets.htm.)

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov, or in hard copy.

You can view and copy Arkansas' application and associated publicly available materials from 8:30 a.m. to 4 p.m. Monday through Friday at the following locations: Arkansas Department of Environmental Quality (ADEQ), 8101 Interstate 30, Little Rock, Arkansas 72219-8913, (501) 682-0876, and EPA, Region 6, 1445 Ross Avenue, Dallas, Texas 75202-2733, phone number (214) 665-8533. Interested persons wanting to examine these documents should make an appointment with the office at least two weeks in advance.

FOR FURTHER INFORMATION CONTACT: Alima Patterson, Region 6 Regional Authorization Coordinator, RCRA Permit Section (RPM), Multimedia Planning and Permitting Division, (214) 665-8533, EPA Region 6, 1445 Ross Avenue, Dallas, Texas 75202-2733, and email address patterson.alima@epa.gov.

SUPPLEMENTARY INFORMATION:

I. Why are revisions to State programs necessary?

States which have received final authorization from the EPA under RCRA section 3006(b), 42 U.S.C. 6926(b), must maintain a hazardous waste program that is equivalent to, consistent with, and no less stringent than the Federal program. As the Federal program changes, States must change their programs and ask the EPA to authorize the changes. Changes to State programs may be necessary when Federal or State statutory or regulatory authority is modified or when certain other changes occur. Most commonly, States must change their programs because of changes to the EPA's regulations in 40 CFR parts 124, 260 through 268, 270, 273, and 279.

New Federal requirements and prohibitions imposed by Federal regulations that the EPA promulgates pursuant to the Hazardous and Solid Waste Amendments of 1984 (HSWA) take effect in authorized States at the same time that they take effect in unauthorized States. Thus, the EPA will implement those requirements and prohibitions in the State of Arkansas, including the issuance of new permits implementing those requirements, until the State is granted authorization to do so.

II. What decisions has the EPA made in this rule?

On November 30, 2015, Arkansas submitted a final complete program revision application seeking authorization of changes to its hazardous waste program that correspond to certain Federal rules promulgated between October 4, 2005 and January 3, 2014, including the adoption of portions of RCRA Clusters XVI and XVII, and RCRA Clusters XXII and XXIII (Checklists 211, 213, 214, and 228 through 232). The EPA concludes that Arkansas' application to revise its authorized program meets all of the statutory and regulatory requirements established by RCRA, as set forth in RCRA section 3006(b), 42 U.S.C. 6926(b), and 40 CFR part 271. Therefore, the EPA grants Arkansas final authorization to operate its hazardous waste program with the changes described in the authorization application, and as outlined below in Section G of this document. The State of Arkansas has responsibility for permitting treatment, storage, and disposal facilities (TSDFs) within its borders (except in Indian Country) and for carrying out the aspects of the RCRA program described in its revised program application, subject to the limitations of HSWA, as discussed above. New Federal requirements and prohibitions imposed by Federal regulations that the EPA promulgates under the authority of HSWA take effect in authorized States before they are authorized for the requirements. Thus, the EPA will implement those requirements and prohibitions in Arkansas, including issuing permits, until the State is granted authorization to do so.

III. What is the effect of this authorization decision?

The effect of this decision is that a facility in Arkansas subject to RCRA will now have to comply with the authorized State requirements instead of the equivalent Federal requirements in order to comply with RCRA. Arkansas has enforcement responsibilities under its State hazardous waste program for violations of such program, but the EPA retains its authority under RCRA sections 3007, 3008, 3013, and 7003, which include, among others, authority to:

• Do inspections, and require monitoring, tests, analyses, or reports;

• Enforce RCRA requirements and suspend or revoke permits; and

• Take enforcement actions after notice to and consultation with the State.

This action does not impose additional requirements on the regulated community because the regulations for which Arkansas is being authorized by this action are already effective under State law, and are not changed by this action.

IV. Why is EPA using a direct final rule?

Along with this direct final rule, the EPA is publishing a separate document in the “Proposed Rules” section of this Federal Register that serves as the proposal to authorize these State program changes. The EPA did not publish a proposal before this rule because EPA views this as a routine program change and do not expect comments. The EPA also views the Arkansas program revisions as noncontroversial action and anticipates no adverse comment.

EPA is providing an opportunity for public comment now, as described in Section E of this document.

V. What happens if the EPA receives comments that oppose this action?

If the EPA receives comments that oppose this authorization, EPA will withdraw this direct final rule by publishing a document in the Federal Register before the rule becomes effective. The EPA will base any further decision on the authorization of the State program changes on the proposal mentioned in the previous section, after considering all comments received during the comment period. EPA will then address all public comments in a later final rule. You may not have another opportunity to comment. If you want to comment on this authorization, you must do so at this time.

If EPA receives comments that oppose only the authorization of a particular change to the State hazardous waste program, EPA will withdraw only that part of this rule, but the authorization of the program changes that the comments do not oppose will become effective on the date specified in this document. The Federal Register withdrawal document will specify which part of the authorization will become effective, and which part is being withdrawn.

VI. For what has Arkansas previously been authorized?

Arkansas initially received final authorization on January 25, 1985, (50 FR 1513) to implement its Base Hazardous Waste Management program. Arkansas received authorization for revisions to its program on January 11, 1985 (50 FR 1513), effective January 25, 1985; March 27, 1990 (55 FR 11192), effective May 29, 1990; September 18, 1991 (56 FR 47153), effective November 18, 1991; October 5, 1992 (57 FR 45721), effective December 4, 1992; October 7, 1994 (59 FR 51115), effective December 21, 1994; April 24, 2002 (67 FR 20038), effective June 24, 2002; and August 15, 2007 (72 FR 45663), effective October 15, 2007. The authorized Arkansas RCRA program was incorporated by reference into the Code of Federal Regulations effective December 13, 1993 (58 FR 52674); June 28, 2010 (75 FR 36538), effective August 27, 2010; August 10, 2012 (77 FR 47779), effective October 9, 2012; and October 31, 2014 (79 FR 64678), effective December 30, 2014. The authorized Arkansas RCRA program was incorporated by reference into the Code of Federal Regulations October 12, 1993 (58 FR 52674) effective December 13, 1993; June 20, 1995 (60 FR 32112) effective August 21, 1995; June 28, 2010 (75 FR 36538) effective August 27, 2010; October 2, 2014 (79 FR 59438) effective December 1, 2014; January 29, 2016 (81 FR 4961) effective March 29, 2016. On November 30, 2015, Arkansas submitted a final complete program revision application seeking authorization of its program revision in accordance with 40 CFR 271.21.

The ADEQ has re-organized its agency and division's program areas and subunits, but all duties and responsibilities remain the same. Any differences between the State's provisions and the Federal provisions are noted on the individual revision Checklists. The official State regulations may be found in Arkansas Pollution Control and Ecology Commission Regulation Number 23 (Hazardous Waste Management), last amended September 25, 2015, effective October 18, 2015.

The provisions for which the State is seeking authorization are documented in the Rule Revision Checklists 211, 213, 214, and 228 through 232, which are portions of RCRA Clusters XVI and XVII, and RCRA Clusters XXII and XXIII. Reference to Arkansas Code Annotate (A.C.A) of 1987, Annotated, as amended August 2015. Reference to Arkansas Pollution Control and Ecology Commission (APC&EC) Regulations Number 23, (Hazardous Waste Management) (formerly titled the Arkansas Hazardous Waste Management Code), last amended September 25, 2015, to adopt all final rules promulgated by the EPA through June 26 2014, which became, effective on October 18, 2015. Dates of enactment and adoption for other statutes or regulations are given when cited.

VII. What changes is the EPA authorizing with this action?

On November 30, 2015, the State of Arkansas submitted a final complete program revision application, seeking authorization of their changes in accordance with 40 CFR 271.21. We now make a direct final decision, subject to receipt of written comments that oppose this action, that the State of Arkansas' hazardous waste program revision is equivalent to, consistent with, and no less stringent than the Federal program, and therefore satisfies all of the requirements necessary to qualify for final authorization. Therefore, the EPA grants the State of Arkansas final authorization for portions of RCRA Clusters XVI and XVII, and RCRA Clusters XXII and XXIII (Checklists 211, 213, 214, and 228 through 232). The State of Arkansas program revisions consist of regulations which specifically govern Federal Hazardous Waste revisions promulgated October 4, 2005, April 4, 2006, July 14, 2006, April 13, 2012, and July 2013 through June 2014, which are listed in a chart below.

Description of Federal requirement (include checklist #, if relevant) | Federal Register date and page (and/or RCRA statutory authority) | Analogous state authority
1. Revision of Wastewater Treatment Exemptions for Hazardous Waste Mixtures (“Headworks exemptions”). (Checklist 211) | 70 FR 57769-57785 October 4, 2005 | Arkansas Code of 1987 Annotated (A.C.A.) Sections 8-7-201 through 8-7-226. Arkansas Pollution Control and Ecology (APC&E) Regulation Number 23, (Hazardous Waste Management) (HWM) Sections 261.3(a)(2)(iv)(A), (B), (D), (F), and (G), as amended September 25, 2015, effective on October 18, 2015.
2. Burden Reduction Initiative. (Checklist 213) | 71 FR 16862-16915 April 4, 2006 | Arkansas Code of 1987 Annotated (A.C.A.) Sections 8-7-201 through 8-7-226. Arkansas Pollution Control and Ecology (APC&E) Regulation Number 23, (Hazardous Waste Management) (HWM) Sections 260.31(b)(2)-(b)(7), 261.4(a)(9)(iii)(E), 261.4(f)(9), 264.15(b)(4), 264.16(a)(4), 264.52(b), 264.56(i), 264.73(b) introductory paragraph, (b)(1), (b)(2), (b)(6), (b)(8), (b)(10), (b)(18), and (19), 264.98(d), 264.98(g)(2) and (g)(3), 264.99(f) and (g), 264.100(g), 264.113(e)(5), 264.115 ¹, 264.120 ¹, 264.143(i) ¹, 264.145(i) ¹, 264.147(e) ¹, 264.174, 264.191(a) ¹, 264.191(b)(5)(ii) ¹, 264.192(a) introductory paragraph ¹ and (b) introductory paragraph ¹, 264.193(a)(1) and (a)(2), 264.193(i)(2) ¹, 264.195(b)-(g), 264.196(f) ¹, 264.251(c) introductory paragraph, 264.280(b) ¹, 264.314, 264.343(a)(2), 264.347(d), 264.554(c)(2) ¹, 264.571(a)-(c) ¹, 264.573(a)(4)(ii) ¹, 264.573(g) ¹, 264.574(a) ¹, 264.1061(b)(1) and (b)(2), 264.1062(a), 264.1100 introductory paragraph, 264.1101(c)(2) ¹, 265.15(b)(4), 265.16(a)(4), 265.52(b), 265.56(i), 265.73(b) introductory paragraph, 265.73(b)(1) and (b)(2), 265.73(b)(6)-(8), 265.73(b)(15), 265.90(d)(1) and (d)(3), 265.93(d)(2) and (d)(5), 265.113(e)(5), 265.115 ¹, 265.120 ¹, 265.143(h) ¹, 265.145(h) ¹, 265.147(e) ¹, 265.174, 265.191(a) ¹, 265.191(b)(5)(ii) ¹, 265.192(a) introductory paragraph ¹ and (b) introductory paragraph ¹, 265.193(a)(1)-(2), 265.193(i)(2) ¹, 265.195(a)-(c), 265.195(e)-(g), 265.196(f) ¹, 265.201(c) introductory paragraph, 265.201(d), 265.201(f)-(h), 265.221(a), 265.224, 265.259(a), 265.280(e) ¹, 265.301(a), 265.303(a), 265.314, 265.441(a)-(c) ¹, 265.443(a)(4)(ii) ¹, 265.443(g) ¹, 265.444(a) ¹, 265.1061(b)(1) and (b)(2), 265.1061(d), 265.1062(a), 265.1100 introductory paragraph, 265.1101(c)(2) ¹, 266.102(e)(10), 266.103(d) and (k), 268.7(a)(1) and (a)(2), 268.7(b)(6), 268.9(a) and (d), 270.14(a) ¹, 270.16(a) ¹, 270.26(c)(15) ¹, and 270.42 Appendix I, Item O except Item O.1, as amended September 25, 2015, effective on October 18, 2015.
3. Correction to Errors in the Code of Federal Regulations. (Checklist 214) | 71 FR 40254-40280 July 14, 2006 | Arkansas Code of 1987 Annotated (A.C.A.) Sections 8-7-201 through 8-7-226. Arkansas Pollution Control and Ecology (APC&E) Regulation Number 23, (Hazardous Waste Management) (HWM) Sections 260.10 “Incompatible Waste”, “Personnel or facility personnel”, “Universal waste”, and “Used oil”, 260.22(a)(1), 260.22(d)(1)(ii), 260.40(a), 260.41 introductory paragraph, 261.2(c)(1)(i), 261.3(a)(2)(i), 261.4(a)(20)(v), 261.4(b)(6)(i)(B), 261.4(b)(6)(ii) introductory paragraph, 261.4(b)(6)(ii)(D) and (F), 261.4(b)(9), 261.4(e)(2)(vi), 261.4(e)(3)(i), 261.6(a)(2)(i)-(v), 261.6(c)(2), 261.21(a)(3) and (a)(4), 261.21/Notes 1-4, 261.24(b), 261.31(a)/Table, 261.32/Table “K107” and “K069” entries, 261.33(e), 261.33(e)/Comment, 261.33(e)/Table, 261.33(f), 261.33(f)/Comment, 261.33(f)/Table, 261.38/Table 1, 261.38(c)(1)(i)(C)(4), Part 261, Appendix VII, Part 261, Appendix VIII, 262.34(a)(1)(iv), 262.53(b), 262.56(b), 262.58(a)(1), 262.70, 262.81(k), 262.82(a)(1)(ii), 262.83(b)(1)(i), 262.83(b)(2)(i), 262.84(e), 262.87(a), 262.87(a)(5) introductory paragraph, 264.1(g)(2), 264.4, 264.13(b)(7)(iii)(B), 264.17(b) introductory paragraph, 264.18(a)(2)(iii), 264.18(b)(2)(iii), 264.97(a)(1) introductory paragraph, 264.97(a)(1)(i), 264.97(i)(5), 264.98(a)(2), 264.98(g)(4)(i), 264.99(h)(2) introductory text, 264.101(d), 264.111(c), 264.112(b)(8), 264.115, 264.116, 264.118(c), 264.119(b)(1)(ii), 264.140(d)(1), 264.142(b)(2), 264.143(b)(7) and (b)(8), 264.143(e)(5), 264.145(a)(3)(i), 264.145(d)(6), 264.145(f)(11) introductory paragraph, 264.147(h)(1), 264.151(b), 264.151(f) introductory paragraph, 264.151(g), Letter From Chief Financial Officer, fifth paragraph, item 3, Part A, Alternative I, item *3, Part B, Alternative I, items 10 and 15, and Part B, Alternative II, item *7, 264.151(h)(2) Guarantee For Liability Coverage, Certification of Valid Claim Recitals, item 13.(a), and Recitals, item 14, 264.151(i), item 2.(e), 264.151(j), item 2.(d), 264.151(k), Irrevocable Standby Letter of Credit and CERTIFICATE OF VALID CLAIM, 264.151(1), 264.151(1), CERTIFICATION OF VALID CLAIM, 264.151(m)(1), CERTIFICATION OF VALID CLAIM, Section 8.(c), 264.151(n)(1), under STANDBY TRUST AGREEMENT Section 3.(c)(1), Section 3.(e)(3), and Sections 12 and 16, 264.175(b)(1),264.193(c)(4) Note, (d)(4), (e)(2)(ii) and (iii), (e)(2)(v)(A) and (B), (e)(3)(i) and (ii), (g)(1)(iii) and (iv), and (g)(2)(i)(A), 264.221(c)(1)(i)(B), (c)(2)(ii), (e)(1), and (e)(2)(i)(B) and (C), 264.223(b)(1), 264.226(a)(2), 264.251(a)(2)(i)(A),
|  | 264.252(a) and (b), 264.259(b), 264.280(c)(7) and (d) introductory paragraph, 264.283(a), 264.301(c)(2), 264.301(e)(2)(i)(B), 264.302(a), (b) and (b)(1), 264.314(e)(2), 264.317(a) introductory paragraph, 264.344(b), 264.552(e)(4)(iii), (e)(4)(iv)(F), and (e)(6)(iii)(E), 264.553(e) introductory paragraph, 264.554(a) introductory paragraph, 264.555(e)(6), 264.573(a)(1), (a)(4)(i), (a)(5), (b) introductory paragraph, and (m)(2) and (m)(3), 264.600, 264.601(a) introductory paragraph, (b)(11), and (c)(4), 264.1030(c), 264.1033(f)(2)(vii)(B), 264.1034(b)(2), 264.1035(c)(4)(i) and (ii), 264.1050(f), 264.1058(c)(1), 264.1064(c)(3), 264.1080(a) and (c), 264.1090(c), 264.1101(b)(3)(iii),(c)(3) introductory paragraph, (c)(3)(i), and (d) introductory paragraph, 264.1102(a), Part 264, Appendix I/Table 1, Part 264, Appendix I/Table 2, Section 2.(d), 265.1(c)(4)(i), 265.1(c)(6), 265.12(a)(1), 265.14(b)(1), 265.16(b), 265.19(c)(2), 265.56(b), 265.90(d) introductory paragraph, 265.110(b)(4), 265.111(c), 265.112(b)(5), 265.112(d)(4), 265.113(b) introductory paragraph, 265.113(e)(4), 265.117(b) introductory paragraph, 265.119(b)(1)(ii), 265.140(b) introductory paragraph and (b)(2), 265.142(a), 265.145(e)(11), 265.147(a)(1)(i) and (b)(1)(i) and (ii), 265.174, 265.193(e)(2)(v)(A) and (B) and (i)(2), 265.194(b)(1) and (2), 265.197(b), 265.201(c) introductory paragraph, 265.221(a) and(d)(2)(i)(A) and (B), 265.224(b)(1), 265.228(a)(2)(iii)(D) and(b)(2), 265.229(b)(2) and (b)(3), 265.255(b), 265.259(b)(1), 265.280(a)(4), 265.281(a)(1), 265.301(a), (d)(1), and (d)(2)(i)(B), 265.302(b), 265.303(b)(1), 265.312(a)(1), 265.314(e)(1)(ii) and(f)(2), 265.316 introductory paragraph, (c) and (d), 265.405(a)(1), 265.441(c), 265.443(a)(4)(i) and (b) introductory paragraph, 265.445(b), 265.1033(f)(2)(ii), 265.1035(b)(2) introductory paragraph, (b)(2)(i), and 265.1035(c)(4)(i), 265.1063(b)(4)(ii), 265.1080(a), 265.1085(h)(3) introductory paragraph, 265.1087(b), 265.1090(f)(1), 265.1100(d), 265.1101(b)(3)(i)(B), (b)(3)(iii), (c)(3) introductory paragraph, and (d) introductory paragraph, Part 265, Appendix I/Tables 1-2, Part 265, Appendix V/Table, Part 265, Appendix VI, 266.70(a), 266.80(a)/Table, 266.100(b)(2)(iv), 266.100(d)(3)(i)(A), 266.100(g) introductory paragraph, 266.102(a)(2)(vi), 266.102(e)(3)(i)(E), (e)(5)(i)(C), (e)(6)(ii)(B)(2), and (e)(8)(iii), 266.103(a)(4)(vii), 266.103(b)(2)(v)(B)(2), (b)(5)(ii)(A), and (b)(6)(viii)(A), 266.103(c)(1)(i), (c)(1)(ii)(A)(2), (c)(1)(ix) introductory paragraph, (c)(1)(ix)(A), and (c)(4)(iv)(C)(1), 266.103(g)(1)(i), 266.106(d)(1), 266.109(a)(2)(ii) and (b) introductory paragraph, Part 266, subpart N heading, Part 266, Appendices III through VI, Part 266, Appendix VIII, 3(b)(2), Part 266, Appendix XIII, 267.147(f)(2)(i)(A), 268.2(g), 268.4(a)(3) introductory paragraph, 268.6(c)(5) introductory paragraph, 268.7(a)(1), (a)(3)(ii), (a)(4)/Table entry 8, (b)(3)(ii)/Table, entry 5, (b)(4)(ii), (c)(2), (d) introductory paragraph, (d)(1) introductory paragraph, (d)(1)(i)-(iii), and (d)(2) and (d)(3), 268.14(b) and (c), 268.40(g), 268.40/Table “TREATMENT STANDARDS FOR HAZARDOUS WASTES”, 268.42/Table 1, 268.44(c), 268.45/Table 1, 268.48/Table “UNIVERSAL TREATMENT STANDARDS”, 268.49(d), 268.50(c), 268.50(g), Part 268, Appendix VIII, 270.1(a)(2)/Table, 270.1(b) introductory paragraph, 270.1(c)(1)(iii), 270.1(c)(3)(i) introductory paragraph, 270.2 “On-site” and “Publicly owned treatment works (POTW)”, 270.10(j), 270.11(d)(1) and (2), 270.13(k)(7), 270.14(a), (b)(11)(ii)(B), (b)(19)(iii), and (b)(21), 270.17(f), 270.18(b) and (g), 270.20(i)(2), 270.26(c)(15), 270.33(b) introductory paragraph, 270.41(c), 270.42(d)(2)(i), 270.42, Appendix I, 270.70(a) introductory paragraph, 270.72(b)(2), 273.9 “Universal waste”, 273.13(b) introductory paragraph, 273.14(a), 273.34(a), 279.1 “Petroleum refining facility”, 279.10(b)(2) introductory paragraph, 279.11, 279.11/Table 1, 279.43(c)(3)(i) and (c)(5), 279.44(a) and (c)(2), 279.45(a), 279.52(a) and (b), (b)(1)(ii) and (b)(6)(ii) and (iii), 279.55(a) introductory paragraph, and (b)(2)(i)(B), 279.56(a)(2), 279.57(a)(2)(ii), 279.59, 279.63(b)(3), 279.64(e), and 279.70(b)(1), as amended September 25, 2015, effective on October 18, 2015.
4. Hazardous Waste Technical Corrections and Clarification Rule. (Checklist 228) | 77 FR 22229-22232 April 13, 2012 | Arkansas Code of 1987 Annotated (A.C.A.) Sections 8-7-201 through 8-7-226. Arkansas Pollution Control and Ecology (APC&E) Regulation Number 23, (Hazardous Waste Management) (HWM) Sections 261.32(a), entry for K107, and 266.20(b), as amended September 25, 2015, effective on October 18, 2015.
5. Conditional Exclusions for Solvent Contaminated Wipes. (Checklist 229) | 78 FR 46448-46485 July 31, 2013 | Arkansas Code of 1987 Annotated (A.C.A.) Sections 8-7-201 through 8-7-226. Arkansas Pollution Control and Ecology (APC&E) Regulation Number 23, (Hazardous Waste Management) (HWM) Sections 260.10 “No free liquids”, 260.10 “Solvent-contaminated wipe”, 260.10 “Wipe”, 261.4(a)(26), and 261.4(b)(18), as amended September 25, 2015, effective on October 18, 2015.
6. Conditional Exclusion for Carbon Dioxide (CO2) Streams in Geologic Sequestration Activities. (Checklist 230) | 79 FR 350-364 January 3, 2014 | Arkansas Code of 1987 Annotated (A.C.A.) Sections 8-7-201 through 8-7-226. Arkansas Pollution Control and Ecology (APC&E) Regulation Number 23, (Hazardous Waste Management) (HWM) Sections 260.10 “Carbon dioxide stream”, and 261.4(h), as amended September 25, 2015, effective on October 18, 2015.
7. Hazardous Waste Electronic Manifest Rule. (Checklist 231) | 79 FR 7518-7563 February 7, 2014 | Arkansas Code of 1987 Annotated (A.C.A.) Sections 8-7-201 through 8-7-226. Arkansas Pollution Control and Ecology (APC&E) Regulation Number 23, (Hazardous Waste Management) (HWM) Sections 260.2, 260.10 “Electronic manifest (or e-manifest)”, “Electronic manifest system (or e-manifest system)”, “Manifest”, “User of the electronic manifest system”, 262.20(a)(3), 262.24, 262.25, 263.20(a), 263.25(a), 264.71(a)(2), 264.71(g)-(l), 265.71(a)(2), 265.71(g)-(l), as amended September 25, 2015, effective on October 18, 2015. (See Section I. Electronic Manifest provisions that are non-delegable to States.)
8. Revisions to the Export Provisions of the Cathode Ray Tube (CRT) Rule. (Checklist 232) | 79 FR 36220-36231 June 26, 2014 | Arkansas Code of 1987 Annotated (A.C.A.) Sections 8-7-201 through 8-7-226. Arkansas Pollution Control and Ecology (APC&E) Regulation Number 23, (Hazardous Waste Management) (HWM) Sections 260.10 “CRT exporter”, 261.39(a)(5)(i)(F), and (a)(5)(x) and (xi), and 261.41(a) and (b), as amended September 25, 2015, effective on October 18, 2015.
¹ More stringent provisions.

VIII. Where are the revised State rules different from the Federal rules?

The State of Arkansas regulations that are more stringent than the Federal regulations are documented in the above chart. For enforcement purposes, the EPA does not enforce broader in scope provisions.

IX. Electronic manifest provisions that are non-delegable to States.

The Federal Hazardous Waste Electronic Manifest Rule (79 FR 7518; February 7, 2014) contains several provisions which are non-delegable to States. Specifically, States cannot receive authorization to establish a Federal user under the electronic manifest requirements, nor can States receive authorization for the electronic signature requirements, resulting in the States' inability to implement the provisions listed below. However, EPA strongly recommends States adopt these provisions while retaining the EPA rule language unchanged; Arkansas has adopted the Electronic Manifest Rule using this approach. The non-delegable provisions and provisions where States must retain references to “EPA” are: 40 CFR 260.10 “electronic manifest”, “electronic manifest system”, “use of the electronic manifest system”; 262.24(g); 262.25; 263.20(a)(2); 262.20(a)(3)(ii); 263.20(a)(8); 264.71(a)(2)(v); 264.71(j); 265.71(a)(2)(v); and 265.71(j).

X. Who handles permits after the authorization takes effect?

The State of Arkansas will issue permits for all the provisions for which it is authorized and will administer the permits it issues. The EPA will continue to administer any RCRA hazardous waste permits or portions of permits which we issued prior to the effective date of this authorization. EPA will not issue any more new permits or new portions of permits for the provisions listed in the chart in this document after the effective date of this authorization. The EPA will continue to implement and issue permits for HSWA requirements for which ADEQ is not yet authorized.

XI. How does this action affect Indian Country (18 U.S.C. 1151) in Arkansas?

The State of Arkansas Hazardous Program is not being authorized to operate in Indian Country.

XII. What is codification and is the EPA codifying Arkansas' hazardous waste program as authorized in this rule?

Codification is the process of placing the State's statutes and regulations that comprise the State's authorized hazardous waste program into the CFR. We do this by referencing the authorized State rules in 40 CFR part 272. We reserve the amendment of 40 CFR part 272, subpart E for this authorization of Arkansas' program changes until a later date. In this authorization application the EPA is not codifying the rules documented in this Federal Register document.

XIII. Administrative Requirements

The Office of Management and Budget (OMB) has exempted this action from the requirements of Executive Order 12866 (58 FR 51735, October 4, 1993), and therefore this action is not subject to review by OMB. The reference to Executive Order 13563 (73 FR 3821, January 21, 2011) is also exempt from review under Executive orders 12866 (56 FR 51735, October 4, 1993). This action authorizes State requirements for the purpose of RCRA 3006 and imposes no additional requirements beyond those imposed by State law. Accordingly, I certify that this action will not have a significant economic impact on a substantial number of small entities under the Regulatory Flexibility Act (5 U.S.C. 601 et seq.). Because this action authorizes preexisting requirements under State law and does not impose any additional enforceable duty beyond that required by State law, it does not contain any unfunded mandate or significantly or uniquely affect small governments, as described in the Unfunded Mandates Reform Act of 1995 (Pub. L. 104-4). For the same reason, this action also does not significantly or uniquely affect the communities of Tribal governments, as specified by Executive Order 13175 (65 FR 67249, November 9, 2000). This action will not have substantial direct effects on the States, on the relationship between the national government and the States, or on the distribution of power and responsibilities among the various levels of government, as specified in Executive Order 13132 (64 FR 43255, August 10, 1999), because it merely authorizes State requirements as part of the State RCRA hazardous waste program without altering the relationship or the distribution of power and responsibilities established by RCRA. This action also is not subject to Executive Order 13045 (62 FR 19885, April 23, 1997), because it is not economically significant and it does not make decisions based on environmental health or safety risks. This rule is not subject to Executive Order 13211, “Actions Concerning Regulations That Significantly Affect Energy Supply, Distribution, or Use” (66 FR 28355, May 22, 2001) because it is not a significant regulatory action under Executive Order 12866.

Under RCRA 3006(b), the EPA grants a State's application for authorization as long as the State meets the criteria required by RCRA. It would thus be inconsistent with applicable law for the EPA, when it reviews a State authorization application; to require the use of any particular voluntary consensus standard in place of another standard that otherwise satisfies the requirements of RCRA. Thus, the requirements of section 12(d) of the National Technology Transfer and Advancement Act of 1995 (15 U.S.C. 272 note) do not apply. As required by section 3 of Executive Order 12988 (61 FR 4729, February 7, 1996), in issuing this rule, the EPA has taken the necessary steps to eliminate drafting errors and ambiguity, minimize potential litigation, and provide a clear legal standard for affected conduct. The EPA has complied with Executive Order 12630 (53 FR 8859, March 15, 1988) by examining the takings implications of the rule in accordance with the “Attorney General's Supplemental Guidelines for the Evaluation of Risk and Avoidance of Unanticipated Takings” issued under the Executive Order. This rule does not impose an information collection burden under the provisions of the Paperwork Reduction Act of 1995 (44 U.S.C. 3501 et seq.). Executive Order 12898 (59 FR 7629, Feb. 16, 1994) establishes federal executive policy on environmental justice. Its main provision directs federal agencies, to the greatest extent practicable and permitted by law, to make environmental justice part of their mission by identifying and addressing, as appropriate, disproportionately high and adverse human health or environmental effects of their programs, policies, and activities on minority populations and low-income populations in the United States. Because this rule authorizes pre-existing State rules which are at least equivalent to, and no less stringent than existing federal requirements, and imposes no additional requirements beyond those imposed by State law, and there are no anticipated significant adverse human health or environmental effects, the rule is not subject to Executive Order 12898.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this document and other required information to the U.S. Senate, the U.S. House of Representatives, and the Comptroller General of the United States prior to publication in the Federal Register. A major rule cannot take effect until 60 days after it is published in the Federal Register. This action is not a “major rule” as defined by 5 U.S.C. 804(2). This action will be effective October 11, 2016.

List of Subjects in 40 CFR Part 271

Environmental protection, Administrative practice and procedure, Confidential business information, Hazardous waste, Hazardous waste transportation, Indian lands, Intergovernmental relations, Penalties, Reporting and recordkeeping requirements.

Authority: This action is issued under the authority of sections 2002(a), 3006, and 7004(b) of the Solid Waste Disposal Act as amended 42 U.S.C. 6912(a), 6926, 6974(b).

Dated: July 14, 2016.
Ron Curry,
Regional Administrator, Region 6.

[FR Doc. 2016-18433 Filed 8-10-16; 8:45 am]

BILLING CODE 6560-50-P